ENVIRONMENTAL PROTECTION AGENCY

[EPA-HQ-ORD-2015-0765; FRL-8900-01-ORD]

Board of Scientific Counselors (BOSC) Executive Committee Meeting—September 2021

AGENCY: Environmental Protection Agency (EPA).

ACTION: Notice of public meeting.

SUMMARY: The Environmental Protection Agency (EPA), Office of Research and Development (ORD), gives notice of a series of virtual meetings of the Board of Scientific Counselors (BOSC) Executive Committee (EC) to review the draft reports of the Homeland Security (HS) and Safe and Sustainable Water Resources (SSWR) subcommittees and discuss Per- and Polyfluoroalkyl Substances (PFAS).

DATES:

1. The meetings will be held over five days via videoconference:

a. Tuesday, September 14, 2021 from 3 p.m. to 6 p.m. (EDT). This meeting will cover the HS and SSWR draft reports;

b. Wednesday, September 29, 2021 from 12 p.m. to 5 p.m. (EDT); and

c. Thursday, September 30, 2021 from 12 p.m. to 5 p.m. (EDT). These meetings will cover PFAS.

Attendees must register by September 13, 2021.

2. A BOSC deliberation on PFAS will be held on October 8, 2021, from 11 a.m. to 2 p.m. (EDT). Attendees must register by October 7, 2021.

3. A final deliberation on PFAS will be held on October 20, 2021, from 11 a.m. to 2 p.m. (EDT). Attendees must register by October 19, 2021.

Meeting times are subject to change. This series of meetings are open to the public. Comments must be received by September 13 to be considered by the Executive Committee. Requests for the draft agenda or making a presentation at the meeting will be accepted until September 13.

ADDRESSES: Instructions on how to connect to the videoconference will be provided upon registration at https://epa-bosc-ec-mtg.eventbrite.com.

Submit your comments to Docket ID No. EPA-HQ-ORD-2015-0765 by one of the following methods:

• www.regulations.gov: Follow the online instructions for submitting comments.

Note: Comments submitted to the www.regulations.gov website are anonymous unless identifying information is included in the body of the comment.

• Email: Send comments by electronic mail (email) to: ORD.Docket@epa.gov, Attention Docket ID No. EPA-HQ-ORD-2015-0765.

Note: Comments submitted via email are not anonymous. The sender's email will be included in the body of the comment and placed in the public docket which is made available on the internet.

Instructions: All comments received, including any personal information provided, will be included in the public docket without change and may be made available online at www.regulations.gov. Information claimed to be Confidential Business Information (CBI) or other information whose disclosure is restricted by statute will not be included in the public docket and should not be submitted through www.regulations.gov or email. For additional information about the EPA's public docket visit the EPA Docket Center homepage at http://www.epa.gov/dockets/.

Public Docket: Publicly available docket materials may be accessed Online at www.regulations.gov.

Copyrighted materials in the docket are only available via hard copy. The telephone number for the ORD Docket Center is (202) 566-1752.

FOR FURTHER INFORMATION CONTACT: The Designated Federal Officer (DFO), Tom Tracy, via phone/voicemail at: (202) 564-6518; or via email at: tracy.tom@epa.gov.

Any member of the public interested in receiving a draft agenda, attending the meeting, or making a presentation at the meeting should contact Tom Tracy no later than September 13, 2021.

SUPPLEMENTARY INFORMATION: The Board of Scientific Counselors (BOSC) is a federal advisory committee that provides advice and recommendations to EPA's Office of Research and Development on technical and management issues of its research programs. Meeting agendas and materials will be posted to https://www.epa.gov/bosc.

Proposed agenda items for the meeting include, but are not limited to, the following: Review the HS and SSWR draft reports and PFAS.

Information on Services Available: For information on translation services, access, or services for individuals with disabilities, please contact Tom Tracy at (202) 564-6518 or tracy.tom@epa.gov. To request accommodation of a disability, please contact Tom Tracy at least ten days prior to the meeting to give the EPA adequate time to process your request.

Authority: Public Law 92-463, 1, Oct. 6, 1972, 86 Stat. 770.

Mary Ross,
Director, Office of Science Advisor, Policy and Engagement.

[FR Doc. 2021-18842 Filed 8-31-21; 8:45 am]

BILLING CODE 6560-50-P